DEPARTMENT OF HOMELAND SECURITY

Coast Guard

33 CFR Parts 3, 100, and 165

[Docket No. USCG-2013-0251]

RIN 1625-ZA32

Reorganization of Sector Baltimore and Hampton Roads; Conforming Amendments

AGENCY: Coast Guard, DHS.

ACTION: Final rule.

SUMMARY: The Coast Guard is amending the Code of Federal Regulations (CFR) to reflect changes it has made to the boundaries of Sector Baltimore's and Sector Hampton Roads' Marine Inspection Zone and Captain of the Port Zones. These conforming amendments are necessary to ensure the CFR accurately reflects these boundary changes that were made November 22, 2013. These amendments are not expected to have a substantive impact on the public.

DATES: This rule is effective December 6, 2013.

ADDRESSES: Materials mentioned in this preamble as being available in the docket are part of docket [USCG-2013-0251] and are available for inspection or copying at the Docket Management Facility (M-30), U.S. Department of Transportation, West Building Ground Floor, Room W12-140, 1200 New Jersey Avenue SE., Washington, DC 20590, between 9 a.m. and 5 p.m., Monday through Friday, except Federal holidays. You may also find this docket, USCG-2013-0251, online at http://www.regulations.gov. The following link will take you directly to the docket: http://www.regulations.gov/#!docketDetail;D=USCG-2013-0251.

FOR FURTHER INFORMATION CONTACT: If you have questions on this rule, call or email Mr. Troy Luna, Fifth Coast Guard District, Coast Guard; telephone 757-398-7766, email Troy.T.Luna@uscg.mil. If you have questions on viewing the docket, call Renee V. Wright, Program Manager, Docket Operations, telephone 202-366-9826.

SUPPLEMENTARY INFORMATION:

Table of Acronyms

COTP Captain of the Port

DHS Department of Homeland Security

FR Federal Register

NPRM Notice of Proposed Rulemaking

§ Section

U.S.C. United States Code

A. Regulatory History

We did not publish a notice of proposed rulemaking (NPRM) before this final rule. The Coast Guard finds that this rule is exempt from notice and comment rulemaking requirements under 5 U.S.C. 553(b)(A) because the changes it makes are conforming amendments involving agency organization. The Coast Guard also finds good cause exists under 5 U.S.C. 553(b)(B) for not publishing an NPRM because the changes will have no substantive effect on the public, and notice and comment are therefore unnecessary. For the same reasons, the Coast Guard finds good cause under 5 U.S.C. 553(d)(3) to make the rule effective fewer than 30 days after publication in the Federal Register.

B. Basis and Purpose

On November 22, 2013, the Coast Guard reassigned Station Ocean City 1 to Sector Baltimore and redefined the boundary lines separating Sector Baltimore and Sector Hampton Roads. See Operating Facility Change Order (OFCO) No. 024-13 Change One which is available in the docket for this rule. Under 14 U.S.C. 93, the Commandant of the Coast Guard has authority to change the location of Coast Guard shore establishments. The previous organization of Sector Baltimore and Sector Hampton Roads is described and reflected in regulations, which also contain contact details and other references to Sector Baltimore and Hampton Roads. These conforming amendments update those regulations so that they contain current information.

C. Background

During 2011, Sector Baltimore requested that the Coast Guard Fifth District examine the feasibility of shifting Operational Control of Ocean City and Worcester County, Maryland from Sector Hampton Roads to Sector Baltimore. The analysis reviewed potential workload increases to offshore Search and Rescue, and increased activities for Prevention, Response and Logistics Departments at Sector Baltimore.

The Coast Guard has approved the shift of Ocean City and Worcester County, Maryland Operational Control to Sector Baltimore. This move is intended to improve field-level operations in the region; improve all-hazard response challenges; and provide a single interface point for state and local officials.

D. Discussion of Changes

This rule amends 33 CFR part 3 to reflect the new boundaries of Sector Baltimore and Sector Hampton Roads. The revised § 3.25-10 reflects the updated boundaries of Sector Hampton Roads Marine Inspection Zone and COTP Zone boundary lines resulting from the shift of Ocean City and Worcester County, Maryland to Sector Baltimore. The revised § 3.25-15 reflects the updated boundaries of Sector Baltimore's Marine Inspection Zone and COTP Zone boundary lines resulting in the addition of Ocean City and Worcester County, Maryland.

This rule also amends 33 CFR 100.501, Special Local Regulations; Marine Events in the Fifth Coast Guard District. Specifically, it amends the Table to § 100.501, by moving the Ocean City Maryland Offshore Grand Prix marine event listed in the Coast Guard Sector Hampton Roads—COTP Zone portion of the table to the Coast Guard Sector Baltimore—COTP Zone portion of the table.

Finally, this rule amends 33 CFR 165.506, Safety Zones; Fifth Coast Guard District Fireworks Displays. Specifically, it amends the Table to § 165.506 by moving three safety zone entries—

• North Atlantic Ocean, Ocean City, MD, Safety Zone;

• Isle of Wight Bay, Ocean City, MD, Safety Zone; and

• Assawoman Bay, Fenwick Island—Ocean City, MD, Safety Zone, from the Coast Guard Sector Hampton Roads—COTP Zone portion of the table to the Coast Guard Sector Baltimore—COTP Zone portion of the table.

E. Regulatory Analyses

We developed this rule after considering numerous statutes and executive orders related to rulemaking. Below we summarize our analyses based on these statutes and executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. Because this rule involves internal agency organization and non-substantive changes, it will not impose any costs on the public.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. This rule does not require a general NPRM and therefore is exempt from the requirements of the Regulatory Flexibility Act. Although this rule is exempt, we have considered its potential impact on small entities and found that it will not have a significant economic impact on a substantial number of small entities.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

7. Taking of Private Property

This rule will not cause a taking of private property or otherwise have taking implications under Executive Order 12630, Governmental Actions and Interference with Constitutionally Protected Property Rights.

8. Civil Justice Reform

This rule meets applicable standards in sections 3(a) and 3(b)(2) of Executive Order 12988, Civil Justice Reform, to minimize litigation, eliminate ambiguity, and reduce burden.

9. Protection of Children

We have analyzed this rule under Executive Order 13045, Protection of Children from Environmental Health Risks and Safety Risks. This rule is not an economically significant rule and does not create an environmental risk to health or risk to safety that may disproportionately affect children.

10. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

11. Energy Effects

This action is not a “significant energy action” under Executive Order 13211, Actions Concerning Regulations That Significantly Affect Energy Supply, Distribution, or Use.

12. Technical Standards

This rule does not use technical standards. Therefore, we did not consider the use of voluntary consensus standards.

13. Environment

We have analyzed this rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. This rule involves shifting operational control of Coast Guard activities within Ocean City and Worcester County, Maryland from Sector Hampton Roads to Sector Baltimore. This rule is categorically excluded from further review under paragraph 34(b) of Figure 2-1 of the Commandant Instruction.

List of Subjects

33 CFR Part 3

Organization and functions (Government agencies).

33 CFR Part 100

Marine safety, Navigation (water), Reporting and recordkeeping requirements, and Waterways.

33 CFR Part 165

Harbors, Marine safety, Navigation (water), Reporting and recordkeeping requirements, Security measures, and Waterways.

For the reasons discussed in the preamble, the Coast Guard amends 33 CFR parts 3, 100, and 165 as follows:

PART 3—COAST GUARD AREAS, DISTRICTS, SECTORS, MARINE INSPECTION ZONES, AND CAPTAIN OF THE PORT ZONES

1. The authority citation for part 3 is revised to read as follows:

Authority: 14 U.S.C. 92 & 93; Pub. L. 107-296, 116 Stat. 2135; Department of Homeland Security Delegation No. 0170.1, para. 2(23).

2. Revise § 3.25-10 to read as follows:

§ 3.25-10 Sector Hampton Roads Marine Inspection Zone and Captain of the Port Zone.

Sector Hampton Roads' office is located in Portsmouth, VA. The boundaries of Sector Hampton Roads' Marine Inspection and Captain of the Port Zone start at a point on the Virginia-Maryland boundary at a point 38° 01′36″ N latitude, 75°14′34″ W longitude, thence south east to a point 37°19′14″ N latitude, 72°13′13″ W longitude; thence east to the outermost extent of the EEZ at a point 37°19′14″ N latitude, 71°02′54″ W longitude; thence south along the outermost extent of the EEZ to a point 36°33′00″ N latitude, 71°29′34″ W longitude; thence west to the Virginia-North Carolina boundary at a point 36°33′00″ N latitude, 75°52′00″ W longitude; thence west along the Virginia-North Carolina boundary to the intersection of Virginia-North Carolina-Tennessee at a point 36°35′17″ N latitude, 81°40′38″ W longitude; thence north and west along the Virginia-Tennessee boundary to the intersection of Virginia-Tennessee-Kentucky at a point 36°36′03″ N latitude, 83°40′31″ W longitude; thence northeast along the Virginia State boundary to the intersection of the Virginia-West Virginia State boundaries at a point 39°07′57″ N latitude, 77°49′42″ W longitude; thence southwest along the Loudoun County, VA boundary to the intersection with Fauquier County, VA at a point 39°00′50″ N latitude, 77°57′43″ W longitude; thence east along the Loudoun County, VA boundary to the intersection with Prince William County, VA boundary at a point 38°56′33″ N latitude, 77°39′18″ W longitude; thence south along the Prince William and Fauquier County VA boundaries to the intersection of Fauquier, Prince William, and Stafford County, VA at a point 38°33′24″ N latitude, 77°31′54″ W longitude; thence east along the Prince William and Stafford County, VA boundaries to the western bank of the Potomac River at a point 38°30′13″ N latitude, 77°18′00″ W longitude; thence south along the Stafford County, VA boundary to a point 38°22′30″ N latitude, 77°18′14″ W longitude; thence south and east along the boundary between the southern bank of the Potomac River and Stafford, King George, Westmoreland, and Northumberland Counties in Virginia to a point 37°53′11″ N latitude, 76°14′15″ W longitude; thence east along the Maryland-Virginia boundary as it proceeds across the Chesapeake Bay and Delmarva Peninsula to the point of origin at 38°01′36″ N latitude, 75°14′34″ W longitude.

3. Revise § 3.25-15 to read as follows:

§ 3.25-15 Sector Baltimore Marine Inspection Zone and Captain of the Port Zone.

Sector Baltimore's office is located in Baltimore, MD. The boundaries of Sector Baltimore's Marine Inspection Zone and Captain of the Port Zone start at a point 38°01′36″ N latitude, 75°14′34″ W longitude; thence south east to a point 37°19′14″ N latitude, 72°13′13″ W longitude; thence north west to a point at 38°26′25″ N latitude, 74°26′46″ W longitude; thence west to the intersection of the Maryland-Delaware boundary and the coast at a point 38°27′03″ N latitude, 75°02′ 55″ W longitude; thence west to a point 38°27′15″ N latitude, 75°30′00″ W longitude on the Delaware-Maryland boundary; thence proceeding along the Delaware-Maryland boundary west to a point at 38°27′37″ N latitude, 75°41′35″ W longitude; thence proceeding north to the Maryland-Delaware-Pennsylvania boundary at a point 39°43′22″ N latitude, 75°47′17″ W longitude; thence west along the Pennsylvania-Maryland boundary to the Pennsylvania-Maryland-West Virginia boundary at a point 39°43′16″ N latitude, 79°28′36″ W longitude; thence south and east along the Maryland-West Virginia boundary to the intersection of the Maryland-Virginia-West Virginia boundaries at a point 39°19′17″ N latitude, 77°43′08″ W longitude; thence southwest along the Loudoun County, VA boundary to the intersection with Fauquier County, VA at a point 39°00′50″ N latitude, 77°57′43″ W longitude; thence east along the Loudoun County, VA boundary to the intersection with Prince William County, VA boundary at a point 38°56′33″ N latitude, 77°39′18″ W longitude; thence south along the Prince William and Fauquier County VA boundaries to the intersection of Fauquier, Prince William, and Stafford County, VA at a point 38°33′24″ N latitude, 77°31′54” W longitude; thence south east to a point 38°20′30” N latitude, 77°18′14” W longitude; thence south and east along the boundary between the southern bank of the Potomac River and Stafford, King George, Westmoreland, and Northumberland Counties in Virginia to a point 37°53′11″ N latitude, 76°14′15″ W longitude; thence east along the Maryland-Virginia boundary as it proceeds across the Chesapeake Bay and Delmarva Peninsula to the point of origin at 38°01′36″ N latitude, 75°14′34″ W longitude.

PART 100—SAFETY OF LIFE ON NAVIGABLE WATERS

4. The authority citation for part 100 continues to read as follows:

Authority: 33 U.S.C. 1233.

§ 100.501 [Amended]

5. In § 100.501, amend the Table to § 100.501 by:

a. Redesignating entry (c.)4 as (b.)21, and

b. Redesignating entries (c.)5 through (c.)12, as (c.)4 through (c.)11, respectively.

PART 165—REGULATED NAVIGATION AREAS AND LIMITED ACCESS AREAS

6. The authority citation for part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

§ 165.506 [Amended]

7. In § 165.506, amend the Table to § 165.506 by:

a. Redesignating entries (c.)1, (c.)2, and (c.)3, as (b.)23, (b.)24, and (b.)25, respectively, and

b. Redesignating entries (c.)4 through (c.)24, as (c.)1 through (c.)21, respectively.

Dated: December 2, 2013.
Katia Cervoni,
Interim Chief, Office of Regulations and Administrative Law, U.S. Coast Guard.

[FR Doc. 2013-29102 Filed 12-5-13; 8:45 am]

BILLING CODE 9110-04-P